FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 14, 2017.

A. Federal Reserve Bank of Minneapolis (Jacquelyn K. Brunmeier, Assistant Vice President) 90 Hennepin Avenue, Minneapolis, Minnesota 55480-0291:

1. Rebecca R. Billingsley, Lake Elmo, Minnesota, Daniel D. Raleigh, Lake Elmo, Minnesota, and Elizabeth R. Landherr, Lake Elmo, Minnesota, individually, and as trustees of one or more of the following trusts: The Joseph Leo Raleigh Trust (trustee Daniel D. Raleigh), the Megan Snowell Raleigh Trust (trustee Daniel D. Raleigh), the Elizabeth Tian Landherr Trust (trustee Elizabeth R. Landherr), the Maria Snowell Landherr Trust (trustee Elizabeth R. Landherr), the Anna Keman Raleigh Landherr Trust (trustee Elizabeth R. Landherr), the John Daniel Billingsley Trust (trustee Rebecca R. Billingsley), the Kathleen Raleigh Billingsley Trust, (trustee Rebecca R. Billingsley), and the Rachel Elizabeth Billingsley Trust (trustee Rebecca R. Billingsley), and as the persons designated to vote the shares held by the Lake Elmo Bank Employee Stock Ownership Trust (all Trusts located in Lake Elmo, Minnesota); to retain shares of Lake Elmo Bancshares, Inc., Lake Elmo, Minnesota, and thereby indirectly retain shares of Lake Elmo Bank, Lake Elmo, Minnesota.

Board of Governors of the Federal Reserve System, February 23, 2017.
Yao-Chin Chao,
Assistant Secretary of the Board.

[FR Doc. 2017-03860 Filed 2-27-17; 8:45 am]

BILLING CODE 6210-01-P